DEPARTMENT OF DEFENSE

Office of the Secretary

Defense Intelligence Agency Advisory Board Closed Meeting

AGENCY: Department of Defense, Defense Intelligence Agency.

ACTION: Notice.

SUMMARY: Pursuant to the provisions of subsection (d) of section 10 of Pub. L. 92-463, as amended by section 5 of Pub. L. 94-409, notice is hereby given that a closed meeting of the DIA Advisory Board has been scheduled as follows:

DATES: February 25-26, 2004, 8:30 a.m. to 5 p.m.

ADDRESSES: ANSER Conference Center, 2900 S. Quincy Street, Suite 800, Arlington, VA.

FOR FURTHER INFORMATION CONTACT: Ms. Jane McGehee, Program Manager/Executive Secretary, DIA Advisory Board, Washington, DC 20340-1328, (703) 693-9567.

SUPPLEMENTARY INFORMATION: The entire meeting is devoted to the discussion of classified information as defined in section 552b(c)(l), title 5 of the U.S.C, and therefore will be closed to the public. The Board will receive briefings and discuss several current critical intelligence issues in order to advise the Director, DIA.

Dated: February 10, 2004.
L.M. Bynum,
Alternate OSD Federal Register Liaison Officer, Department of Defense.

[FR Doc. 04-3292 Filed 2-13-04; 8:45 am]

BILLING CODE 5001-06-M